DEPARTMENT OF THE INTERIOR

National Park Service

Notice of Intent to Repatriate Cultural Items in the Possession of the Museum of Indian Arts and Culture/Laboratory of Anthropology, Museum of New Mexico, Santa Fe, NM

AGENCY: National Park Service

ACTION: Notice

Notice is hereby given under the Native American Graves Protection and Repatriation Act, 43 CFR 10.10 (a)(3), of the intent to repatriate cultural items in the possession of the Museum of Indian Arts and Culture/Laboratory of Anthropology, Museum of New Mexico, Santa Fe, NM that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

Three cultural items are a fillet-rimmed ceramic bowl, a bone bead, and one lot of bone awls.

While these three cultural items are recorded as excavated from numbered burials at site LA95 (Quavai site), Torrance County, NM, the human remains are not in the collections of the Museum of Indian Arts and Culture. No information exists to indicate whether the human remains were not recovered, or whether the human remains are or were in the possession of another unknown institution.

Based on material culture, architectural features, and documentary evidence, site LA 95 has been dated to the Pueblo III through the early historic period (A.D. 1100-1680).

One cultural item is one lot of ceramic sherds.

In 1958, this one cultural item was excavated from site LA 97 (Abo site), Torrance County, NM during legally authorized excavations conducted by a Museum of New Mexico employee. While these cultural items are recorded as excavated from a numbered burial, the human remains are not in the collections of the Museum of Indian Arts and Culture. Based on the excavation notes, it is presumed that the human remains were too fragile to be excavated and were not recovered.

Based on material culture and architectural features, site LA 97 has been dated to the Pueblo IV through the early historic period (A.D. 1300-1680). Based on archeological context and regional cultural chronology, these sites have been identified as Ancestral Puebloan. Historical evidence also records these sites as trade centers that enjoyed frequent contact with non-Puebloan tribes.

Based on the above-mentioned information, officials of the Museum of Indian Arts and Culture have determined that, pursuant to 43 CFR 10.2 (d)(2)(ii), these four cultural items are reasonably believed to have been placed with or near individual human remains at the time of death or later as part of the death rite or ceremony and are believed, by a preponderance of the evidence, to have been removed from a specific burial site of an Native American individual. Officials of the Museum of Indian Arts and Culture also have determined that, pursuant to 43 CFR 10.2 (e), there is a relationship of shared group identity that can be reasonably traced between these items and the Pueblo of Acoma, New Mexico; the Hopi Tribe of Arizona; the Pueblo of Isleta, New Mexico; the Pueblo of Jemez, New Mexico; the Pueblo of Santo Domingo, New Mexico; the Pueblo of Taos, New Mexico; Ysleta Del Sur Pueblo of Texas; the Zuni Tribe of the Zuni Reservation, New Mexico; and a non-Federally recognized Indian group, the Piro-Manso-Tiwa Tribe. This notice has been sent to officials of the Pueblo of Acoma, New Mexico; the Hopi Tribe of Arizona; the Pueblo of Isleta, New Mexico; the Pueblo of Jemez, New Mexico; the Kiowa Indian Tribe of Oklahoma; the Mescalero Apache Tribe of the Mescalero Reservation, New Mexico; the Pueblo of Santo Domingo, New Mexico; the Pueblo of Taos, New Mexico; the Wichita and Affiliated Tribes (Wichita, Keechi, Waco, and Tawakonie), Oklahoma; Ysleta Del Sur Pueblo of Texas; and the Zuni Tribe of the Zuni Reservation, New Mexico. Representatives of any other Indian tribe that believes itself to be culturally affiliated with these unassociated funerary objects should contact Dr. Duane Anderson, Director, Museum of Indian Arts and Culture, P.O. Box 2087, Santa Fe, NM 87504, telephone (505) 476-1251, before September 28, 2000. Repatriation of these unassociated funerary objects to the culturally affiliated tribes may begin after that date if no additional claimants come forward.

Dated: August 11, 2000.
John Robbins,
Assistant Director, Cultural Resources Stewardship and Partnerships.

[FR Doc. 00-21973 Filed 8-28-00; 8:45 am]

BILLING CODE 4310-70-F